DEPARTMENT OF COMMERCE

Submission for OMB Review; Comment Request

The Department of Commerce will submit to the Office of Management and Budget (OMB) for clearance the following proposal for collection of information under the provisions of the Paperwork Reduction Act (44 U.S.C. Chapter 35).

Agency: U.S. Census Bureau.

Title: The Boundary and Annexation Survey, Boundary Validation Program.

Form Number(s): BAS 1, BAS 2, BAS 3, BAS 4, BAS 5, BAS 6, BAS-ARF1, BAS-ARF2, BVP-1, BVP-2.

OMB Control Number: 0607-0151.

Type of Request: Revision of a currently approved collection.

Burden Hours: 241,750.

Number of Respondents: 74,000.

Average Hours per Response: 3 hours and 16 minutes.

Needs and Uses: The U.S. Census Bureau is requesting an extension and revision to the Paperwork Reduction Act clearance for the Boundary and Annexation Survey (BAS) in order to continue the current BAS collection and conduct the Boundary Validation Program (BVP). The BAS is conducted annually to collect information about selected legally defined geographic areas, such as counties (and equivalent areas), incorporated places, minor civil divisions (MCDs), as well as federally recognized American Indian reservations, including off-reservation trust land and tribal subdivisions. The BVP is conducted every ten years to provide the highest elected or appointed official (HEO) an opportunity to review the boundary data collected during the BAS over the last decade. The 2010 BVP is conducted in parallel with the 2010 BAS.

The BVP validates the following actions by governmental units, as reported in the BAS:

• The creation of newly incorporated places and MCDs.

• The creation of new counties, and the addition of new federally recognized American Indian areas (AIAs).¹

¹ AIAs American Indian Areas include reservations and/or off-reservation trust lands and tribal subdivisions

• The dissolution of incorporated places and MCDs.

• The changes in the boundaries of incorporated places, MCDs, counties, barrios, subbarrios, municipios, consolidated cities, and AIANNHAs.²

² AIANNHAs American Indian, Alaska Native, Native Hawaiian Areas include reservations and/or off-reservation trust lands and tribal subdivisions, Alaska Native Regional Corporations (ANRCs) and Hawaiian home lands.

The results of the BAS and BVP provide geographic information to support the following products and/or services:

• Decennial and economic censuses.

• American Community Survey.

• Population Estimates Program.

• OMB Circular A-16 Responsibilities for:

○ Geospatial One Stop E-GOV Initiative.

○ Federal Geographic Data Committee (FGDC) Responsibilities for:

• FGDC Subcommittee on Cultural and Demographic Data.

• Boundaries.

• U.S. Geological Survey (USGS) Initiative on The National Map.

• Federal Information Processing Standards (FIPS) program.

• Geographic Names Information Systems (GNIS) program.

The 2010 BVP will include all actively functioning counties or statistically equivalent entities, incorporated places (including consolidated cities), minor civil divisions (MCDs), all federally recognized American Indian reservations (AIRs) and off-reservation trust land entities in the United States, and municipios, barrios and subbarrios in Puerto Rico. In addition, the Census Bureau will send a letter to the governor of each state explaining the 2010 BVP process and advising them that state boundaries will be reviewed in conjunction with relevant counties boundaries as part of the BVP.

The data and information collected from the BAS and BVP serve Federal, State, local, and tribal governments, and the private sector. The BVP provides validation for the information collected through the BAS. The BAS is the primary provider for the following services and products:

• Data collection for the decennial and economic censuses, and annual surveys.

• Primary data on new municipal incorporations and disincorporations.

• Legal boundary changes for governmental units.

• Inventory for the FIPS and GNIS programs.

• Updates of population estimates for governments including: the creation of new governments; the dissolution of governments; or changes in boundaries for local or tribal governments.

• Legal boundary framework layer for the FGDC National Spatial Data Infrastructure, the USGS National Map, and the E-GOV Geospatial One Stop.

Affected Public: State, Local, or Tribal government.

Frequency: The BVP is conducted only during the year of the decennial census, whereas the BAS is conducted annually.

Respondent's Obligation: Voluntary.

Legal Authority: The BAS and BVP fulfill the requirements specified in Title 13, United States Code, Section 6.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: November 13, 2009.
Glenna Mickelson,
Management Analyst, Office of the Chief Information Officer.

[FR Doc. E9-27722 Filed 11-18-09; 8:45 am]

BILLING CODE 3510-07-P